DEPARTMENT OF TRANSPORTATION

Federal Aviation Administration

14 CFR Part 25

[Docket No. FAA-2008-1292; Notice No. 09-05A]

RIN 2120-AJ35

Flightcrew Alerting; Reopening of Comment Period

AGENCY: Federal Aviation Administration (FAA), DOT.

ACTION: Notice of proposed rulemaking (NPRM); reopening of comment period.

SUMMARY: On July 9, 2009, the FAA published an NPRM to amend the airworthiness standards for flightcrew alerting and invited comments for a 60-day period. The comment period closed on September 8, 2009; however, the FAA is reopening the comment period for an additional 15 days in response to requests from The Boeing Company; the Air Line Pilots Association, International; the General Aviation Manufacturers Association; and Airbus. All of the requestors stated that reopening the comment period is needed to permit them additional time to develop comments responsive to Notice No. 09-05. Reopening the comment period will allow the requestors and others additional time to review and comment on the proposal.

DATES: The comment period for the NPRM published on July 9, 2009 (74 FR 32810) closed September 8, 2009, and is reopened until October 1, 2009.

ADDRESSES: You may send comments identified by Docket Number FAA-2008-1292 using any of the following methods:

• Federal eRulemaking Portal: Go to http://www.regulations.gov and follow the instructions for sending your comments electronically.

• Mail: Send comments to Docket Operations, M-30, U.S. Department of Transportation, 1200 New Jersey Avenue, SE., West Building Ground Floor, Room W12-140, Washington, DC 20590.

• Fax: Fax comments to Docket Operations at 202-493-2251.

• Hand Delivery: Bring comments to Docket Operations in Room W12-140 of the West Building Ground Floor at 1200 New Jersey Avenue, SE., Washington, DC, between 9 a.m. and 5 p.m., Monday through Friday, except Federal holidays.

For more information on the rulemaking process, see the SUPPLEMENTARY INFORMATION section of this document.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time or to Docket Operations in Room W12-140 of the West Building Ground Floor at 1200 New Jersey Avenue, SE., Washington, DC, between 9 a.m. and 5 p.m., Monday through Friday, except Federal holidays.

FOR FURTHER INFORMATION CONTACT: For technical questions concerning this proposed rule contact Loran Haworth, FAA, Airplane and Flightcrew Interface Branch (ANM-111), Transport Airplane Directorate, Aircraft Certification Service, 1601 Lind Avenue, SW, Renton, Washington 98057-3356; telephone (425) 227-1133; facsimile 425-227-1232; e-mail Loran.Haworth@faa.gov.

For legal questions concerning this proposed rule contact Doug Anderson, FAA, Office of the Regional Counsel (ANM-7), 1601 Lind Avenue, SW., Renton, Washington 98057-3356; telephone (425) 227-2166; facsimile 425-227-1007; e-mail Douglas.Anderson@faa.gov.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments only one time.

We will file in the docket all comments we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Proprietary or Confidential Business Information

Do not file in the docket information that you consider to be proprietary or confidential business information. Send or deliver this information directly to the person identified in the FOR FURTHER INFORMATION CONTACT section of this document. You must mark the information that you consider proprietary or confidential. If you send the information on a disk or CD-ROM, mark the outside of the disk or CD-ROM and also identify electronically within the disk or CD-ROM the specific information that is proprietary or confidential.

Under 14 CFR 11.35(b), when we are aware of proprietary information filed with a comment, we do not place it in the docket. We hold it in a separate file to which the public does not have access, and place a note in the docket that we have received it. If we receive a request to examine or copy this information, we treat it as any other request under the Freedom of Information Act (5 U.S.C. 552). We process such a request under the DOT procedures found in 49 CFR part 7.

Availability of Rulemaking Documents

You can get an electronic copy using the Internet by:

(1) Searching the Federal eRulemaking Portal at http://www.regulations.gov;

(2) Visiting the Office of Rulemaking's Web page at http://www.faa.gov/avr/arm/index.cfm; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

Background

On July 9, 2009, (74 FR 32810) Notice No. 09-05, “Flightcrew Alerting” that would amend the airworthiness standards for flightcrew alerting was published in the Federal Register. The comment period closed September 8.

By requests dated August 28, 2009, from The Boeing Company; September 2, 2009, from the Air Line Pilots Association, International (ALPA); September 3, 2009, from Airbus; and September 4, 2009, from the General Aviation Manufacturers Association (GAMA); the FAA was asked to extend the comment period by 60 days to permit a more careful review and consideration of the proposed rule.

The FAA considered the requests and has determined that reopening the comment period for an additional 15 days will allow The Boeing Company, ALPA, Airbus, GAMA and others, to complete their review and provide responsive comments on the NPRM. Reopening the comment period for the requested additional 60 days would adversely impact the FAA's harmonization efforts with the European Aviation Safety Agency.

The FAA finds it in the public interest to reopen the comment period for fifteen (15) days to give all interested persons additional time to complete their review and comments on the proposal.

Issued in Washington, DC, on September 11, 2009.
Brenda D. Courtney,
Acting Director, Office of Rulemaking.

[FR Doc. E9-22343 Filed 9-15-09; 8:45 am]

BILLING CODE 4910-13-P